DEPARTMENT OF THE INTERIOR

Fish and Wildlife Service

Endangered and Threatened Wildlife and Plants; 5-Year Review of Holy Ghost Ipomopsis and Kuenzler Hedgehog Cactus

AGENCY: Fish and Wildlife Service, Interior.

ACTION: Notice of review.

SUMMARY: The U.S. Fish and Wildlife Service (Service), announces a 5-year review of Holy Ghost Ipomopsis (Ipomopsis sancti-spiritus) and Kuenzler hedgehog cactus (Echinocereus fendleri var. kuenzleri) under section 4(c)(2)(A) of the Endangered Species Act of 1973 (Act) (16 U.S.C. 1531 et seq.). The purpose of reviews conducted under this section of the Act is to ensure that the classification of species as threatened or endangered on the List of Endangered and Threatened Wildlife and Plants (List) is accurate.

The 5-year review is an assessment of the best scientific and commercial data available at the time of the review. Therefore, we are requesting submission of any new information (best scientific and commercial data) on Holy Ghost Ipomopsis and Kuenzler hedgehog cactus since their original listings as endangered species in 1994 (59 FR 13836) and 1979 (44 FR 61924), respectively. If the present classification of either of these species is not consistent with the best scientific and commercial information available, the Service will recommend whether or not a change is warranted in the Federal classification of Holy Ghost Ipomopsis or Kuenzler hedgehog cactus. Any change in Federal classification would require a separate final rule-making process.

DATES: Information submitted for our consideration must be received on or before August 20, 2004.

ADDRESSES: Information submitted on either species should be sent to the U.S. Fish and Wildlife Service, Endangered Species Division, Chief, Attention: 5-year Review, 500 Gold St. SE., Albuquerque, New Mexico, 87103. Information received in response to this notice and review will be available for public inspection by appointment, during normal business hours, at the above address.

FOR FURTHER INFORMATION CONTACT: Wendy Brown or Tracy Scheffler at the above address, or at 505/248-6920.

SUPPLEMENTARY INFORMATION:

Why Is a 5-year Review Conducted?

Section 4(c)(2)(A) of the Act requires that we conduct a review of listed species at least once every 5 years. We are then, under section 4(c)(2)(B) and the provisions of subsections (a) and (b), to determine, on the basis of such a review, whether or not any species should be removed from the List (delisted), or reclassified from endangered to threatened, or from threatened to endangered. Our regulations at 50 CFR 424.21 require that we publish a notice in the Federal Register announcing those species currently under active review. This notice announces our active review of Holy Ghost Ipomopsis and Kuenzler hedgehog cactus.

What Information Is Considered in the Review?

A 5-year review considers all new information available at the time of the review. These reviews will consider the best scientific and commercial data that has become available since the current listing determination or most recent status review of each species, such as:

A. Species biology including, but not limited to, population trends, distribution, abundance, demographics, and genetics;

B. Habitat conditions including, but not limited to, amount, distribution, and suitability;

C. Conservation measures that have been implemented to benefit the species;

D. Threat status and trends (see five factors under heading “How do we determine whether a species is endangered or threatened?”); and

E. Other new information, data, or corrections including, but not limited to, taxonomic or nomenclatural changes, identification of erroneous information contained in the List, and improved analytical methods.

How Are Holy Ghost Ipomopsis and Kuenzler Hedgehog Cactus Currently Listed?

The List is found in 50 CFR 17.11 (wildlife) and 17.12 (plants). Amendments to the List through final rules are published in the Federal Register. The List is also available on our internet site at http://endangered.fws.gov/wildlife.html#Species. In Table 1 below, we provide a summary of the listing information for both species.

Table 1.—Summary of the Listing Information for Holy Ghost Ipomopsis and Kuenzler Hedgehog Cactus
Common name | Scientific name | Status | Where listed | Final listing rule
Holy Ghost Ipomopsis | Ipomopsis sancti-spiritus | Endangered | NM | 1994; 59 FR; 13836 13840
Kuenzler hedgehog cactus | Echinocereus fendleri var. kuenzleri | Endangered | NM | 1979; 44 FR; 61924 61927

Definitions Related to This Notice

The following definitions are provided to assist those persons who contemplate submitting information regarding the species being reviewed:

A. Species includes any species or subspecies of fish, wildlife, or plant, and any distinct population segment of any species of vertebrate, which interbreeds when mature.

B. Endangered means any species that is in danger of extinction throughout all or a significant portion of its range.

C. Threatened means any species that is likely to become an endangered species within the foreseeable future throughout all or a significant portion of its range.

How Do We Determine Whether a Species Is Endangered or Threatened?

Section 4(a)(1) of the Act establishes that we determine whether a species is endangered or threatened based on one or more of the five following factors:

A. The present or threatened destruction, modification, or curtailment of its habitat or range;

B. Overutilization for commercial, recreational, scientific, or educational purposes;

C. Disease or predation;

D. The inadequacy of existing regulatory mechanisms; or

E. Other natural or manmade factors affecting its continued existence.

Section 4(a)(1) of the Act requires that our determination be made on the basis of the best scientific and commercial data available.

What Could Happen as a Result of This Review?

If we find that there is new information concerning either Holy Ghost Ipomopsis or Kuenzler hedgehog cactus indicating a change in classification may be warranted, we may propose a new rule that could do one of the following: (a) reclassify the species from endangered to threatened; or (b) remove the species from the List. If we determine that a change in classification is not warranted for either species, Holy Ghost Ipomopsis and Kuenzler hedgehog cactus will remain on the List under their current status.

Public Solicitation of New Information

We request any new information concerning the status of Holy Ghost Ipomopsis or Kuenzler hedgehog cactus. See “What information is considered in the review?” heading for specific criteria. Information submitted should be supported by documentation such as maps, bibliographic references, methods used to gather and analyze the data, and/or copies of any pertinent publications, reports, or letters by knowledgeable sources. Our practice is to make comments, including names and home addresses of respondents, available for public review. Individual respondents may request that we withhold their home addresses from the supporting record, which we will honor to the extent allowable by law. There also may be circumstances in which we may withhold from the supporting record a respondent's identity, as allowable by law. If you wish us to withhold your name and/or address, you must state this prominently at the beginning of your comment. We will not consider anonymous comments, however. We will make all submissions from organizations or businesses, and from individuals identifying themselves as representatives or officials of organizations or businesses, available for public inspection in their entirety.

Authority

This document is published under the authority of the Endangered Species Act (16 U.S.C. 1531 et seq.).

Dated: June 14, 2004.
Regional Director, Region 2, Fish and Wildlife Service.

[FR Doc. 04-16489 Filed 7-20-04; 8:45 am]

BILLING CODE 4310-55-P